DEPARTMENT OF COMMERCE

National Oceanic and Atmospheric Administration

Evaluation of National Estuarine Research Reserve; Public Meeting; Request for Comments

AGENCY: Office for Coastal Management (OCM), National Ocean Service (NOS), National Oceanic and Atmospheric Administration (NOAA), Department of Commerce (DOC).

ACTION: Notice of public meeting and opportunity to comment.

SUMMARY: The National Oceanic and Atmospheric Administration (NOAA), Office for Coastal Management will hold a public meeting to solicit comments on the performance evaluation of the Chesapeake Bay, Virginia National Estuarine Research Reserve.

DATES: NOAA will consider all written comments received by Friday, October 29, 2021. A virtual public meeting will be held on Wednesday, October 20, 2021 at 12 p.m. ET.

ADDRESSES: You may submit written comments on the national estuarine research reserve NOAA intends to evaluate by emailing Carrie Hall, Evaluator, NOAA Office for Coastal management at Carrie.Hall@noaa.gov. Timely comments received by the Office for Coastal Management are considered part of the public record and may be publicly accessible. Any personal information (e.g., name, address) submitted voluntarily by the sender may also be publicly accessible. NOAA will accept anonymous comments. You may also provide public comments during the virtual public meeting. To participate in the virtual public meeting, registration is required by Tuesday, October 19, 2021, at 5 p.m. ET.

Registration: To register, visit https://forms.gle/24YYpd9AkG82ciSN7. If you have difficulty registering, contact Carrie Hall by email at Carrie.Hall@noaa.gov. You may participate online or by phone. If you would like to provide comment during the public meeting, please select “yes” during the online registration. The line-up of speakers will be based on the date and time of registration. Once you register, you will receive a confirmation of your registration. One hour prior to the start of the meeting on October 20, 2021, you will be emailed a link to the public meeting and information about participating.

FOR FURTHER INFORMATION CONTACT: Carrie Hall Evaluator, NOAA Office for Coastal Management by email at Carrie.Hall@noaa.gov or 240-530-0730. Copies of the previous evaluation findings, reserve management plan, and reserve site profile may be viewed and downloaded on the internet at http://coast.noaa.gov/czm/evaluations. A copy of the evaluation notification letter and most recent progress report may be obtained upon request by contacting Carrie Hall.

SUPPLEMENTARY INFORMATION: Section 312 of the Coastal Zone Management Act (CZMA) requires NOAA to conduct periodic evaluations of federally approved national estuarine research reserves. The process includes one or more public meetings, consideration of written public comments, and consultations with interested Federal, state, and local agencies and members of the public. During the evaluation, NOAA will consider the extent to which the state of California has met the national objectives, adhered to the reserve's management plan approved by the Secretary of Commerce, and adhered to the terms of financial assistance under the CZMA. When the evaluation is completed, NOAA's Office for Coastal Management will place a notice in the Federal Register announcing the availability of the Final Evaluation Findings.

Authority: 16 U.S.C. 1458

Keelin Kuipers,
Deputy Director, Office for Coastal Management, National Ocean Service, National Oceanic and Atmospheric Administration.

[FR Doc. 2021-20256 Filed 9-17-21; 8:45 am]

BILLING CODE 3510-JE-P